DEPARTMENT OF HEALTH AND HUMAN SERVICES

Administration for Children and Families

45 CFR Parts 302 and 303

RIN 0970-AB81

Child Support Enforcement Program; State Plan Requirements, Standards for Program Operations

AGENCY: Office of Child Support Enforcement (OCSE), HHS

ACTION: Final rule; correction.

SUMMARY: This document corrects the final child support enforcement regulations published in the Federal Register on May 12, 2003.

The final rule responded to comments on, and made technical corrections to, interim final child support enforcement regulations published in the Federal Register on February 9, 1999.

DATES: Effective on June 26, 2003.

FOR FURTHER INFORMATION CONTACT: Eileen Brooks, Deputy Director, Policy Division, OCSE, phone (202) 401-5369; fax (202) 401-4054; E-mail: ebrooks@acf.hhs.gov.

Corrections: Vol. 68, No. 91, May 12, 2003 Rules and Regulations.

§ 302.70 [Corrected]

1. On page 25303, column 2, in § 302.70 [Amended], amendment 11.a is corrected to read:

Paragraph (a)(4) is amended by removing “, in accordance with the requirements set forth in § 303.103 of this chapter”.

§ 303.72 [Corrected]

2. On page 25304, column 3, in § 303.72 [Amended], amendment 20.b is corrected to read:

Paragraphs (a)(6), (c)(2), (c)(4), (h)(5), and (i)(1) are amended by removing “Secretary of the Treasury” and adding “Secretary of the U.S. Treasury” in its place.

Dated: August 13, 2003.
Melissa Chapman,
Deputy Assistant Secretary, Office of Information Resources Management.

[FR Doc. 03-22905 Filed 9-8-03; 8:45 am]

BILLING CODE 4184-01-U